DEPARTMENT OF LABOR

Employment and Training Administration

Labor Certification Process for the Temporary Employment of Aliens in Agricultural and Logging in the United States: 2003 Adverse Effect Wage Rates, Allowable Charges for Agricultural and Logging Workers' Meals, and Maximum Travel Subsistence Reimbursement; Correction

AGENCY: Employment and Training Administration.

ACTION: Correction.

SUMMARY: This document corrects the document which was published Wednesday, February 26, 2003. (68 FR 8929).

EFFECTIVE DATE: February 26, 2003.

FOR FURTHER INFORMATION CONTACT: Charlene G. Giles (202) 693-2950 (not a toll-free call).

SUPPLEMENTARY INFORMATION: In the Federal Register Volume 68, Number 38 beginning on page 8929 in the issue of Wednesday, February 26, 2003, make the following correction: On page 8929 in the third Column Table—2003 Adverse Effect Wage Rates (AEWRs) change the Hawaii wage rate which is listed at $9.29 to $9.42. The correction is necessary because we have been informed that the Hawaii rate contained in the Adverse Effect Wage Rate Forecast—Year 2003 published by the U.S. Department of Agriculture (USDA), Office of the Chief Economist, did not accurately report the Hawaii rate as determined by the USDA National Agricultural Statistics Service.

Signed at Washington, DC, this 13th day of March 2003.
Emily Stover DeRocco,
Assistant Secretary for Employment and Training Administration.

[FR Doc. 03-6559 Filed 3-18-03; 8:45 am]

BILLING CODE 4510-30-M